DEPARTMENT OF ENERGY

Federal Energy Regulatory Commission

Combined Notice of Filings #1

Take notice that the Commission received the following electric corporate filings:

Docket Numbers: EC18-99-000.

Applicants: New Harquahala Generating Company, LLC.

Description: New Harquahala Generating Company, LLC, Application for Approval Under Section 203 of the Federal Power Act and Request for Expedited Approval.

Filed Date: 6/11/18.

Accession Number: 20180611-5152.

Comments Due: 5 p.m. ET 7/2/18.

Docket Numbers: EC18-100-000.

Applicants: Cedar Point Wind, LLC, Silver State Solar Power North, LLC, Canada Pension Plan Investment Board.

Description: Application for Authorization Under Section 203 of the Federal Power Act and Request for Expedited Consideration, Shortened Comment Period and Certain Waivers of Cedar Point Wind, LLC, et. al.

Filed Date: 6/11/18.

Accession Number: 20180611-5176.

Comments Due: 5 p.m. ET 7/2/18.

Take notice that the Commission received the following electric rate filings:

Docket Numbers: ER18-1769-000.

Applicants: PJM Interconnection, L.L.C.

Description: § 205(d) Rate Filing: First Revised ISA No. 4623, Queue No. AC1-152 AC1-172 to be effective 5/10/2018.

Filed Date: 6/11/18.

Accession Number: 20180611-5138.

Comments Due: 5 p.m. ET 7/2/18.

Docket Numbers: ER18-1770-000.

Applicants: ISO New England Inc., New England Power Pool Participants Committee.

Description: § 205(d) Rate Filing: ISO New England Inc. and NEPOOL; Revisions to the Determination of Economic Life to be effective 8/10/2018.

Filed Date: 6/11/18.

Accession Number: 20180611-5141.

Comments Due: 5 p.m. ET 7/2/18.

Docket Numbers: ER18-1771-000.

Applicants: Langdon Renewables, LLC.

Description: Baseline eTariff Filing: Langdon Renewables, LLC Application for Market-Based Rates to be effective 7/25/2018.

Filed Date: 6/11/18.

Accession Number: 20180611-5148.

Comments Due: 5 p.m. ET 7/2/18.

Docket Numbers: ER18-1772-000.

Applicants: Cheekerton, LLC.

Description: Baseline eTariff Filing: Cheekerton, LLC MBR Application to be effective 7/3/2018.

Filed Date: 6/12/18.

Accession Number: 20180612-5045.

Comments Due: 5 p.m. ET 7/3/18.

Docket Numbers: ER18-1773-000.

Applicants: NorthWestern Corporation.

Description: § 205(d) Rate Filing: SA 683 1st Rev—Control Center Services Agreement with MATL to be effective 8/1/2018.

Filed Date: 6/12/18.

Accession Number: 20180612-5058.

Comments Due: 5 p.m. ET 7/3/18.

Docket Numbers: ER18-1774-000.

Applicants: Southwestern Electric Power Company.

Description: § 205(d) Rate Filing: Revised and Restated Minden PSA to be effective 9/1/2018.

Filed Date: 6/12/18.

Accession Number: 20180612-5059.

Comments Due: 5 p.m. ET 7/3/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2018.
Kimberly D. Bose,
Secretary.

[FR Doc. 2018-12943 Filed 6-15-18; 8:45 am]

BILLING CODE 6717-01-P